DEPARTMENT OF COMMERCE

Foreign-Trade Zones Board

[B-41-2014]

Foreign-Trade Zone 244—Riverside County, California, Authorization of Production Activity, ModusLink Global Solutions, (Camera and Accessories Kitting) Riverside, California

On May 21, 2014, the March Joint Powers Authority, grantee of FTZ 244, submitted a notification of proposed production activity to the Foreign-Trade Zones (FTZ) Board on behalf of ModusLink Global Solutions, within Site 5, in Riverside, California.

The notification was processed in accordance with the regulations of the FTZ Board (15 CFR part 400), including notice in the Federal Register inviting public comment (79 FR 32532, 06-05-2014). The FTZ Board has determined that no further review of the activity is warranted at this time. The production activity described in the notification is authorized, subject to the FTZ Act and the Board's regulations, including Section 400.14. Also, as noted in the request, all textile inputs (classified under HTSUS Subheadings 4202.92 and 6307.90) will be admitted to the site in privileged foreign status (19 CFR 146.41) or in domestic/duty-paid (19 CFR 146.43) status.

Dated: September 18, 2014.
Camille R. Evans,
Acting Executive Secretary.

[FR Doc. 2014-22736 Filed 9-23-14; 8:45 am]

BILLING CODE 3510-DS-P